DEPARTMENT OF THE INTERIOR

Bureau of Land Management

[LLCAN01000 L10200000.XZ0000 17X LXSIOVHD0000]

Notice of Public Meeting: Northern California District Resource Advisory Council

AGENCY: Bureau of Land Management, Interior.

ACTION: Notice.

SUMMARY: In accordance with the Federal Land Policy and Management Act of 1976, and the Federal Advisory Committee Act of 1972, the U.S. Department of the Interior, Bureau of Land Management's (BLM) Northern California District Resource Advisory Council (RAC) will meet as indicated below.

DATES: The meeting will be held on Wednesday, April 26, 2017, from 10 a.m. to 4 p.m. The meeting is open to the public. Public comments will be accepted at 11 a.m. to noon.

ADDRESSES: The meeting will be held in the conference room of the Bureau of Land Management Northern California District Office, 6640 Lockheed Drive, Redding, CA 96002. Those unable to attend can participate by teleconference. The toll-free telephone number is (888) 282-0374, and the passcode is 50716. Written comments can be sent to the district office at the above address.

FOR FURTHER INFORMATION CONTACT: BLM Northern California District Manager, Alan Bittner, (530) 224-2160; or Public Affairs Officer, Joseph J. Fontana, (530) 252-5332. Persons who use a telecommunications device for the deaf may call the Federal Relay Service at 800-877-8339, to contact the above individuals during normal business hours. The Service is available 24 hours a day, 7 days a week, to leave a message or question with the above individual. You will receive a reply during normal business hours.

SUPPLEMENTARY INFORMATION: The 15-member council advises the Secretary of the Interior, through the BLM, on a variety of planning and management issues associated with public land management on BLM-administered lands in northern California and northwest Nevada. At this meeting, the RAC will discuss development of the Northern California Integrated Resource Management Plan, and receive updated reports from BLM Northern California District field offices. This meeting will be open to the public. Members of the public may present written comments to the RAC. Depending on the number of people who wish to speak, and the time available, the time for individual comments may be limited. Written comments may be sent to the BLM Northern California District Office at the address listed in the ADDRESSES section of this notice. Individuals who plan to attend and need special assistance, such as sign language interpretation and other reasonable accommodations, should contact the BLM as provided above.

Before including your address, phone number, email address, or other personal identifying information in your comment, you should be aware that your entire comment—including your personal identifying information—may be made publicly available at any time. While you can ask us in your comment to withhold your personal identifying information from public review, we cannot guarantee that we will be able to do so.

Authority: 43 CFR 1784.4-2.

Erica St. Michel,
Acting Deputy State Director, Communications.

[FR Doc. 2017-07798 Filed 4-17-17; 8:45 am]

BILLING CODE 4310-40-P